DEPARTMENT OF ENERGY

Federal Energy Regulatory Commission

Privacy Act of 1974; System of Records

AGENCY: Federal Energy Regulatory Commission (FERC), Department of Energy (DOE).

ACTION: Notice of a modified system of records.

SUMMARY: In accordance with the Privacy Act of 1974, all agencies are required to publish in the Federal Register a notice of their systems of records. Notice is hereby given that the Federal Energy Regulatory Commission (FERC) is publishing notice of modifications to an existing FERC system of records titled “FERC Transit Subsidy Program (TSP) Records (FERC-41)” previously titled “FERC Transit Subsidy Program (TSP) (FERC-41).”

DATES: Comments on this modified system of records must be received no later than 30 days after the date of publication in the Federal Register by FERC. The modified system of records will become effective a minimum of 30 days after the date of publication in the Federal Register. If FERC receives public comments, FERC shall review the comments to determine whether any changes to the notice are necessary.

ADDRESSES: Comments may be submitted in writing to Federal Energy Regulatory Commission, 888 First Street NE, Washington, DC 20426 or electronically to privacy@ferc.gov. Comments should indicate that they are submitted in response to “FERC Transit Subsidy Program (TSP) Records (FERC-41).”

FOR FURTHER INFORMATION CONTACT: Mittal Desai, Chief Information Officer & Senior Agency Official for Privacy, Office of the Executive Director, Federal Energy Regulatory Commission, 888 First Street NE, Washington, DC 20426, (202) 502-6432 or privacy@ferc.gov.

SUPPLEMENTARY INFORMATION: In accordance with the Privacy Act of 1974, FERC is updating this notice and republishing it in its entirety. This notice has three (3) new routine uses, routine uses 10, 12 and 13, and updates were made to the language of routine uses 6, 9, and 11. In addition, FERC is amending the following sections to reflect changes made since the publication of the last notice in the Federal Register: dates; addresses; for further information contact; system name and number; system location; system manager(s); purpose(s) of the system; categories of individuals covered by the system; categories of records in the system; policies and practices for storage of records; policies and practices for retention and disposal of records; administrative, technical, and physical safeguards; record access procedures; contesting records procedures; notification procedures; and history.

SYSTEM NAME AND NUMBER:

FERC Transit Subsidy Program (TSP) Records (FERC-41).

SECURITY CLASSIFICATION:

Unclassified.

SYSTEM LOCATION:

Federal Energy Regulatory Commission, Logistics Management Division, Logistics Operations and Publishing Services, 888 First Street NE, Washington, DC 20426.

SYSTEM MANAGER(S):

Tyrone Simpkins, Logistics Operations Branch Chief, Logistics Operations and Publishing Services, Logistics Management Division, Federal Energy Regulatory Commission, 888 First Street NE, Washington, DC 20426, (202) 502-6639.

AUTHORITY FOR MAINTENANCE OF THE SYSTEM:

41 CFR 101-6.3; Public Law 103-172, 5 U.S.C. 7905.

PURPOSE(S) OF THE SYSTEM:

The purpose of the system is to support the overall management of transit subsidy operations for the agency. The application is used to submit applications for the federal government's transit subsidy benefits program and to request transit subsidies; to track employees' commuting expenses; and to monitor the program budget.

CATEGORIES OF INDIVIDUALS COVERED BY THE SYSTEM:

The categories of individuals covered by the system are FERC employees enrolled in the transit benefits program.

CATEGORIES OF RECORDS IN THE SYSTEM:

The categories of records in the system include employee's name, supervisor's name, office, home address, office and personal telephone number, special circumstances (senior citizen or disabled), number of days commuting, monthly commuting cost, SmarTrip card number, and mode of transportation.

RECORD SOURCE CATEGORIES:

Information is obtained from current employees seeking to participate in the federal government's employee transit subsidy benefits program.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) are as follows:

1. To appropriate agencies, entities, and persons when (a) FERC suspects or has confirmed that there has been a breach of the system of records; (b) FERC has determined that as a result of the suspected or confirmed breach there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (a) responding to a suspected or confirmed breach; or (b) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of OPM rules and regulations, and investigations of alleged or possible prohibited personnel practices.

11. To appropriate Federal, State, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; and the information may include the name, address, telephone number, email address, and affiliation of the agency, entity, and/or person(s) seeking and/or participating in dispute resolution services, where appropriate.

13. To Office of Personnel Management (OPM) or Government Accountability Office (GAO) during the course of on-site inspections or human resources audits.

POLICIES AND PRACTICES FOR STORAGE OF RECORDS:

Records are maintained in electronic format and stored by individuals first and last names on an internal web-based application. In addition, all FERC employees and contractors with authorized access have undergone a thorough background security investigation. Data access is restricted to agency personnel or contractors whose responsibilities require access. Access to electronic records is controlled by the organization's Single Sign-On and Multi-Factor Authentication Solution. Role based access is used to restrict electronic data access and the organization employs the principle of least privilege, allowing only authorized users with access (or processes acting on behalf of users) necessary to accomplish assigned tasks in accordance with organizational missions and business functions.

POLICIES AND PRACTICES FOR RETRIEVAL OF RECORDS:

Records may be retrieved by employee's name or SmarTrip card number.

POLICIES AND PRACTICES FOR RETENTION AND DISPOSAL OF RECORDS:

Records are retained in accordance with the following applicable National Archives and Records Administration (NARA) schedules:

1. General Records Schedule (GRS) 2.4: Employee Compensation and Benefits Records, Item 130: Disposition Authority: DAA-GRS-2016-0015-0017. Temporary. Destroy when 3 years old, but longer retention is authorized if required for business use.

2. General Records Schedule (GRS) 2.4: Employee Compensation and Benefits Records, Item 131: Disposition Authority: DAA-GRS-2016-0015-0018. Temporary. Destroy 2 years after employee participation concludes, but longer retention is authorized if required for business use.

3. General Records Schedules (GRS) 5.2: Transition and Intermediary Records. Item 020: Disposition Authority: DAA-GRS-2022-0009-0002. Temporary. Destroy upon creation or update of the final record, or when no longer needed for business use, whichever is later.

ADMINISTRATIVE, TECHNICAL, AND PHYSICAL SAFEGUARDS:

See Policies and Practices for Storage of Records.

RECORD ACCESS PROCEDURES:

Individuals requesting access to the contents of records must submit a request through the Freedom of Information Act (FOIA) office. The FOIA website is located at: https://www.ferc.gov/foia. Requests may be submitted through the following portal: https://www.ferc.gov/enforcement-legal/foia/electronic-foia-privacy-act-request-form. Written requests for access to records should be directed to: Director, Office of External Affair, Federal Energy Regulatory Commission, 888 First Street NE, Washington, DC 20426.

CONTESTING RECORD PROCEDURES:

See Records Access procedures.

NOTIFICATION PROCEDURES:

Generalized notice is provided by the publication of this notice. For specific notice, see Records Access Procedure, above.

EXEMPTIONS PROMULGATED FOR THE SYSTEM:

None.

HISTORY:

65 FR 21755 (April 24, 2000)

86 FR 71477 (December 16, 202.1)

Dated: January 16, 2025.
Debbie-Anne A. Reese,
Secretary.

[FR Doc. 2025-01582 Filed 1-22-25; 8:45 am]

BILLING CODE 6717-01-P